DEPARTMENT OF HEALTH AND HUMAN SERVICES

Announcement of Intent To Establish the Tick-Borne Disease Working Group and Solicitation of Nominations for Appointment to the Working Group Membership; Correction

AGENCY: Office of the Assistant Secretary for Health, Office of the Secretary, U.S. Department of Health and Human Services.

ACTION: Notice; correction.

SUMMARY: The U.S. Department of Health and Human Services published a notice in the Federal Register, dated Monday, July 17, 2017, to announce its intent to establish the Tick-Borne Disease Working Group (Working Group) and to invite nominations for membership. This notice contained incorrect information.

FOR FURTHER INFORMATION CONTACT: CAPT Richard Henry, Office of HIV/AIDS and Infectious Disease Policy; Telephone: (202) 795-7615; Fax (202) 691-2101; email address: richard.henry@hhs.gov.

Correction

In the Federal Register, dated July 17, 2017, on page 32711, correct the first sentence of the Summary to read:

SUMMARY: The U.S. Department of Health and Human Services (HHS) announces its intent to establish the Tick-Borne Disease Working Group (Working Group).

Dated: July 18, 2017.
Donald Wright,
Acting Assistant Secretary for Health.

[FR Doc. 2017-15473 Filed 7-21-17; 8:45 am]

BILLING CODE 4150-28-P